FEDERAL COMMUNICATIONS COMMISSION

Radio Broadcasting Services; AM or FM Proposals To Change the Community of License

AGENCY: Federal Communications Commission.

ACTION: Notice.

SUMMARY: The following applicants filed AM or FM proposals to change the community of License: Agape Educational Media, Inc., Station WOWB, Facility ID 40428, BPED-20160329AER, from Brewton, AL, to Jay; Capstar, TX, LLC, Station WKZP, Facility ID 4674, BPH-20160606AAG, from Bethany Beach, DE, to West Ocean City; Citicasters Licenses, Inc., Station WRDG, Facility ID 61142, BPH-20160513AEF, from Peachtree City, GA, to Union City; Jeff Andrulonis, Station WEAF, Facility ID 24146, BP-20160426AAV, from Camden, SC, to Saint Stephen; Max Radio Of Denver LLC, Station KJHM, Facility ID 38629, BPH-20160614AAD, from Strasburg, CO, to Watkins; Minerva R. Lopez, Station KOUL, Facility ID 28074, BPH-20160216ABP, from Benavides, TX, to Agua Dulce, TX; Radio Partners, LLC, Station WKNB, Facility ID 34929, BPH-20160429ABC, from Clarendon, PA, to Sheffield; Radio Partners, LLC, Station WLSF, Facility ID 190374, BPH-20160106AAX, from Sheffield, PA, to Clarendon; Resonance Media Group, Station NEW, Facility ID 191526, BMPH-20160629AAO, from Grand Portage, MN, to Grand Marais, MN; SLC Divestiture Trust II (Jim Burgoyne, Trustee), Station KMGR, Facility ID 65377, BMPH-20160614AAI, from Delta, UT, to Gunnison; Synergy Broadcast North Dakota, LLC, Station KLTQ, Facility ID 166059, BPH-20160513AEM, from New England, ND, to Beulah; Synergy Broadcast North Dakota, LLC, Station KQLZ, Facility ID 164305, BPH-20160513AEQ, from Beulah, ND, to New England.

DATES: The agency must receive comments on or before September 26, 2016.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm.

Federal Communications Commission.
James D. Bradshaw,
Deputy Chief, Audio Division, Media Bureau.

[FR Doc. 2016-17625 Filed 7-25-16; 8:45 am]

BILLING CODE 6712-01-P